NATIONAL AERONAUTICS AND SPACE ADMINISTRATION

[Notice: (20-009)]

Notice of Release of the 2020 NASA Technology Taxonomy

AGENCY: National Aeronautics and Space Administration (NASA).

ACTION: Notice of release of the 2020 NASA Technology Taxonomy.

SUMMARY: NASA has officially released the 2020 NASA Technology Taxonomy via the NASA Office of the Chief Technologist website. The Technology Taxonomy provides a structure for articulating the technology development disciplines needed to enable future NASA missions. This update to the previous structure uses a technology discipline-based approach that aligns like-technologies independent of their application within the NASA mission portfolio. The Taxonomy serves as a common technology communication tool across the Agency and with its partners in other government agencies, academia, industry, and around the world.

FOR FURTHER INFORMATION CONTACT: To obtain additional information on the 2020 NASA Technology Taxonomy, including downloading a copy of this document, please visit: https://www.nasa.gov/offices/oct/taxonomy.

For general information on the NASA Office of the Chief Technologist please visit: https://www.nasa.gov/offices/oct.

Requests for additional information should be directed to Al Conde, Strategic Integration Lead, Office of the Chief Technologist, NASA Headquarters, 300 E Street SW, Washington, DC 20546, at 202-358-1068, Al.Conde-1@nasa.gov.

SUPPLEMENTARY INFORMATION:

Summary

In 2010, NASA developed the initial draft edition of the Agency's Technology Area Breakdown Structure (TABS) as part of its original Space Technology Roadmaps. TABS served as a valuable tool across the Agency and among NASA's partners in industry, academia, and international space agencies to describe the areas where NASA had conducted technology development activities. Following the release of the final initial version in 2012, the Agency released a second update to TABS in 2015 that, among other updates, expanded its scope to also include NASA's aeronautics technology areas.

In continuation of this evolution, NASA's Office of the Chief Technologist has led the development of the 2020 update that builds upon the lessons learned from past editions. The updated 2020 NASA Technology Taxonomy, or “technology dictionary,” uses a technology discipline-based approach that realigns like-technologies independent of their application within the NASA mission portfolio. The 2020 NASA Technology Taxonomy is designed to serve as a common technology discipline based communication tool across the Agency and with its partners in other government agencies, academia, industry, and around the world.

The full breadth of NASA's technology development activities is vast, with ever increasing technical goals. As NASA moves out on the Artemis missions and the critical technology research and development work needed to return Americans to the moon, a common language is more important than ever. The Taxonomy provides a structure for articulating NASA's technology portfolio and will be key to NASA's ability to manage and communicate its technology development efforts for years to come.

To see the Taxonomy in its entirety please visit: https://www.nasa.gov/offices/oct/home/taxonomy and https://techport.nasa.gov/view/taxonomy.

Cheryl Parker,
Federal Register Liaison Officer.

[FR Doc. 2020-02228 Filed 2-4-20; 8:45 am]

BILLING CODE 7510-13-P